DEPARTMENT OF HOUSING AND URBAN DEVELOPMENT

[Docket No. FR-4650-N-11]

Notice of Submission of Proposed Information Collection to OMB; Tenant Opportunities Program (TOP) Semi-Annual Report

AGENCY: Office of the Chief Information Officer, HUD.

ACTION: Notice.

SUMMARY: The proposed information collection requirement described below has been submitted to the Office of Management and Budget (OMB) for review, as required by the Paperwork Reduction Act. The Department is soliciting public comments on the subject proposal

DATES: Comments Due Date: March 23, 2001.

ADDRESSES: Interested persons are invited to submit comments regarding this proposal. Comments should refer to the proposal by name and/or OMB approval number (2577-0087) and should be sent to: Joseph F. Lackey, Jr., OMB Desk Officer, Office of Management and Budget, Room 10235, New Executive Office Building, Washington, DC 20503.

FOR FURTHER INFORMATION CONTACT: Wayne Eddins, Reports Management Officer, Q, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk officer for the Department.

This Notice also lists the following information:

Title of Proposal: Tenant Opportunities Program (TOP) Semi-Annual Report.

OMB Approval Number: 2577-0087.

Form Numbers: HUD-52370.

Description of the Need for the Information and Its Proposed Use: HUD announces funding for the Tenant Participation and Tenant Opportunities in Public Housing (TOP) inviting eligible applicants to submit an application for grant funding for this Program. Housing agencies consult with tenants, resident councils adopt written procedures, grant agreements are executed, and the HUD-52370 is submitted. HUD uses this information to evaluate the grantee's progress in carrying out the approved TOP Work Plan/Budget.

Respondents: State, Local or Tribal Government.

Frequency of Submission: Annually.

Reporting Burden:

Number of respondents | × | Frequency of response | × | Hours per response | = | Burden hours
958 |  | 2 |  | 2 |  | 3,832

Total Estimated Burden Hours: 3,832.

Status: Reinstatement, with change.

Authority: Section 3507 of the Paperwork Reduction Act of 1995, 44 U.S.C. 35, as amended.

Dated: February 12, 2001.
Wayne Eddins,
Departmental Reports Management Officer, Office of the Chief Information Officer.

[FR Doc. 01-4182 Filed 2-20-01; 8:45 am]

BILLING CODE 4210-01-M